DEPARTMENT OF TRANSPORTATION

Federal Motor Carrier Safety Administration

[Docket No. FMCSA-2011-0324]

Qualification of Drivers; Exemption Applications; Vision

AGENCY: Federal Motor Carrier Safety Administration (FMCSA), DOT.

ACTION: Notice of applications for exemptions; request for comments.

SUMMARY: FMCSA announces receipt of applications from 11 individuals for exemption from the vision requirement in the Federal Motor Carrier Safety Regulations. If granted, the exemptions would enable these individuals to qualify as drivers of commercial motor vehicles (CMVs) in interstate commerce without meeting the Federal vision requirement.

DATES: Comments must be received on or before March 14, 2012.

ADDRESSES: You may submit comments bearing the Federal Docket Management System (FDMS) Docket No. FMCSA-2011-0324 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 11 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

John E. Chitty

Mr. Chitty, age 60, has had retinal detachment in his right eye, due to a traumatic injury sustained 48 years ago. The best corrected visual acuity in his right eye is no light perception and in his left eye, 20/20. Following an examination in 2011, his optometrist noted, “Based on the vision exam, Mr. Chitty has sufficient vision to perform the driving tasks required to operate a commercial vehicle.” Mr. Chitty reported that he has driven straight trucks for 20 years, accumulating 550,000 miles and tractor-trailer combinations for 15 years, accumulating 300,000 miles. He holds a Class A Commercial Driver's License (CDL) from Florida. His driving record for the last 3 years shows no crashes and no convictions for moving violations in a Commercial Motor Vehicle (CMV).

Roger L. Courson

Mr. Courson, 58, has had amblyopia in his left eye since childhood. The best corrected visual acuity in his right eye is 20/15 and in his left eye, 20/200. Following an examination in 2011, his optometrist noted, “It was and still is my professional opinion, that Mr. Courson has sufficient vision to perform the driving tasks required to operate a commercial vehicle.” Mr. Courson reported that he has driven straight trucks for 4 years, accumulating 200,000 miles and tractor-trailer combinations for 17 years, accumulating 1.7 million miles. He holds a Class A CDL from Pennsylvania. His driving record for the last 3 years shows no crashes and no convictions for moving violations in a CMV.

Revis D. Durbin

Mr. Durbin, 69, has had esotropia in his left eye since birth. The best corrected visual acuity in his right eye is 20/20 and in his left eye, 20/100. Following an examination in 2011, his optometrist noted, “It is my clinical impression that he has sufficient vision to perform driving tasks required to operate a commercial vehicle.” Mr. Durbin reported that he has driven straight trucks for 52 years, accumulating 260,000 miles and tractor-trailer combinations for 41 years, accumulating 2.5 million miles. He holds a Class A CDL from Illinois. His driving record for the last 3 years shows no crashes and no convictions for moving violations in a CMV.

James D. Evans

Mr. Evans, 54, has had a prosthetic right eye for the past 30 years. The best corrected visual acuity in his left eye is 20/20. Following an examination in 2011, his optometrist noted, “He has sufficient vision to operate a commercial vehicle.” Mr. Evans reported that he has driven straight trucks for 32 years, accumulating 49,920 miles and tractor-trailer combinations for 32 years, accumulating 25,600 miles. He holds a Class A CDL from Maryland. His driving record for the last 3 years shows no crashes and no convictions for moving violations in a CMV.

Lowell S. Johnson

Mr. Johnson, 56, has had a prosthetic left eye since 1989. The best corrected visual acuity in his right eye is 20/20. Following an examination in 2011, his optometrist noted, “In summary it is my expert opinion that Mr. Johnson not only passes but exceeds all requirements for a federal exemption regarding this waiver.” Mr. Johnson reported that he has driven straight trucks for 38 years, accumulating 760,000 miles and tractor-trailer combinations for 38 years, accumulating 950,000. He holds a Class A CDL from Minnesota. His driving record for the last 3 years shows no crashes and no convictions for moving violations in a CMV.

Chet A. Keen

Mr. Keen, 52, has had amblyopia in his left eye since childhood. The best corrected visual acuity in his right eye is 20/20 and in his left eye, 20/70. Following an examination in 2011, his optometrist noted, “It is my professional opinion that Mr. Keen has demonstrated visual ability to safely operate both private and commercial vehicles.” Mr. Keen reported that he has driven straight trucks for 11 years, accumulating 440,000 miles. He holds a Class A CDL from Utah. His driving record for the last 3 years shows no crashes and no convictions for moving violations in a CMV.

Julian A. Mancha

Mr. Mancha, 38, has had complete loss of vision in his right eye since childhood. The best corrected visual acuity in left eye is 20/20. Following an examination in 2011, his optometrist noted, “In my medical opinion, I certify that Mr. Julian Mancha has sufficient vision to drive and operate commercial vehicles.” Mr. Mancha reported that he has driven tractor-trailer combinations for 9 years, accumulating 787,500 miles. He holds a Class A CDL from Texas. His driving record for the last 3 years shows no crashes but one conviction for speeding in a CMV. He exceeded the speed limit by 10 mph.

Daniel I. Miller

Mr. Miller, 41, has had a pituitary tumor in his left eye since 1982. The best corrected visual acuity in his right eye is 20/20 and in his left eye, from perception only. Following an examination in 2011, his optometrist noted, “In summary, Mr. Miller in my professional opinion, has adequate vision to perform the driving tasks required to operate a commercial vehicle.” Mr. Miller reported that he has driven straight trucks for 6 years, accumulating 120,000 miles and tractor-trailer combinations for 8 years accumulating, 496,000 miles. He holds a Class A CDL from Pennsylvania. His driving record for the last 3 years shows no crashes and no convictions for moving violations in a CMV.

Elijah Mitchell

Mr. Mitchell, 42, has a macular scar in his left eye due to a traumatic injury sustained in 1994. The best corrected visual acuity in his right eye is count-finger vision and in his left eye, 20/20. Following an examination in 2011, his optometrist noted, “In my medical opinion, the patient has sufficient vision to perform the driving tasks required to operate a commercial motor vehicle.” Mr. Mitchell reported that he has driven straight trucks for 10 years, accumulating 660,000 miles and tractor-trailer combinations for 6 years, accumulating 750,000. He holds a Class A CDL from Texas. His driving record for the last 3 years shows no crashes and no convictions for moving violations in a CMV.

Gregory M. Quilling

Mr. Quilling, 57, has a damaged retina in his left eye due to a traumatic injury sustained in 1983. The visual acuity in his right eye is 20/20 and in his left eye, light perception. Following an examination in 2011, his optometrist noted, “In my opinion, Mr. Quilling has sufficient vision to operate a commercial vehicle.” Mr. Quilling reported that he has driven straight trucks for 39 years, accumulating 1.3 million miles. He holds an Operator's license from Virginia. His driving record for the last 3 years shows no crashes and no convictions for moving violations in a CMV.

Donald L. Schaeffer

Mr. Schaeffer, 59, has had amblyopia in his left eye since birth. The best corrected visual acuity in his right eye is 20/20 and in his left eye, light perception. Following an examination in 2011, his optometrist noted, “Mr. Schaeffer can safely operate a motor vehicle based on his field vision at this time.” Mr. Schaeffer reported that he has driven straight trucks for 39 years, accumulating 2.7 million miles. He holds a Class E operator's license from Missouri. His driving record for the last 3 years shows no crashes and no convictions for moving violations in a CMV.

Request for Comments

In accordance with 49 U.S.C. 31136(e) and 31315, FMCSA requests public comment from all interested persons on the exemption petitions described in this notice. The Agency will consider all comments received before the close of business March 14, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: February 7, 2012.
Larry W. Minor,
Associate Administrator for Policy.

[FR Doc. 2012-3263 Filed 2-10-12; 8:45 am]

BILLING CODE 4910-EX-P